NUCLEAR REGULATORY COMMISSION

[Docket No. 99902056; NRC-2024-0146]

Tennessee Valley Authority; Clinch River Nuclear Site; Construction Permit Application

AGENCY: Nuclear Regulatory Commission.

ACTION: Notice; receipt.

SUMMARY: The U.S. Nuclear Regulatory Commission (NRC) is providing public notice each week for four consecutive weeks of receipt and availability of an application for a construction permit (CP) from Tennessee Valley Authority (TVA) for the Clinch River Nuclear Site in Roane County, Tennessee. The application, proposing to construct a GE-Hitachi BWRX-300 reactor, was received in two parts on April 25 and May 20, 2025. This notice is being provided to make the public and other stakeholders aware that the CP application is available for inspection.

DATES: June 17, 2025.

ADDRESSES: Please refer to Docket ID NRC-2024-0146 when contacting the NRC about the availability of information regarding this document. You may obtain publicly available information related to this document using any of the following methods:

• Federal Rulemaking Website: Go to https://www.regulations.gov and search for Docket ID NRC-2024-0146. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Allen Fetter, Office of Nuclear Reactor Regulation, U.S. Nuclear Regulatory Commission, Washington, DC 20555-0001; telephone: 301-415-8556; email: Allen.Fetter@nrc.gov.

SUPPLEMENTARY INFORMATION:

I. Discussion

In response to a letter from TVA dated August 17, 2023 (NNP-23-003, ADAMS Accession No. ML23229A569), the Commission on November 21, 2023 granted an exemption from certain requirements of paragraph 2.101(a)(5) of title 10 of the Code of Federal Regulations (10 CFR), which allowed TVA to submit a construction permit application in two parts with the information required under 10 CFR 50.34(a)(1) included in the second part of the application (ADAMS Accession No. ML23045A008).

Tennessee Valley Authority filed with the NRC, pursuant to 10 CFR part 50, “Domestic Licensing of Production and Utilization Facilities,” both parts of the application for a construction permit to construct a GEH BWRX-300 reactor at the Clinch River Nuclear Site in Roane County, Tennessee, on April 28, 2025 (NNP-25-003, ADAMS Accession No. ML25118A209), and May 20, 2025, (NPP-25-004, ADAMS Package Accession No. ML25140A062), respectively. These notices are being provided in accordance with the requirements in 10 CFR 50.43(a)(3).

The NRC staff is currently undertaking its acceptance review of both parts of the application. If both parts of the application are accepted for docketing, a subsequent Federal Register notice will be issued that addresses the acceptability of the construction permit application for docketing and provisions for participation of the public in the permitting process.

Dated: June 12, 2025.
For the Nuclear Regulatory Commission.
Mahmoud Jardaneh,
Chief, New Reactor Licensing and Infrastructure Branch, Division of New and Renewed Licenses, Office of Nuclear Reactor Regulation.

[FR Doc. 2025-11035 Filed 6-16-25; 8:45 am]

BILLING CODE 7590-01-P